DEPARTMENT OF DEFENSE

Office of the Secretary

Meeting of the Defense Department Advisory Committee on Women in the Services (DACOWITS)

AGENCY: Department of Defense.

ACTION: Notice.

SUMMARY: Pursuant to Section 10(a), Public Law 92-463, as amended, notice is hereby given of a forthcoming of the Defense Department Advisory Committee on Women in the Services (DACOWITS). The purpose of the Committee meeting is to provide further training to the incoming FY 2003 Committee members on issues they will review this year. The meeting is open to the public, subject to the availability of space.

DATES: January 16 & 17, 2003, 8:30 a.m.-5:30 p.m.

ADDRESSES: Courtyard Marriott, 2899 Jefferson Davis Hwy, Arlington, VA 22202.

FOR FURTHER INFORMATION CONTACT: Lieutenant Commander Shannon Thaeler, USN, DACOWITS, 4000 Defense Pentagon, Room 3D769, Washington, DC 20301-4000. Telephone (703) 697-2122.

SUPPLEMENTARY INFORMATION: Interested persons may submit a written statement for consideration by the Committee and make an oral presentation of such. Persons desiring to make an oral presentation or submit a written statement to the Committee must notify the point of contact listed below no later than noon, January 10, 2003. Oral presentations by members of the public will be permitted only on Friday, January 17, 2003, from 5:15 p.m. to 5:30 p.m. before the full Committee. Presentations will be limited to two minutes. Number of oral presentations to be made will depend on the number of requests received from members of the public. Each person desiring to make an oral presentation must provide the point of contact listed below with one (1) copy of the presentation by noon, January 10, 2003 and bring 50 copies of any material that is intended for distribution at the meeting. Persons submitting a written statement only must submit one (1) copy of the statement to the DACOWITS staff by the close of the meeting on January 17, 2003.

Meeting Agenda

Thursday, January 16, 2003

Welcome, Administrative Remarks

Panel: National Guard Bureau, United States Marine Corps, United States Coast Guard

Q & A Session

Army Transformation Briefing

Navy Transformation Briefing

Lunch (Invited Guests Only)

Air Force Transformation Briefing

Army Well-Being Briefing

Navy Family Summit Briefing

Coast Guard Temporary Separation Program

Committee time

Friday, January 17, 2003

Readiness Panel (Participants TBD)

Defense Manpower Data Center Briefing

Health Care Briefing

Lunch (Invited Guests Only)

RAND Briefing

Navy Personnel Research, Study and Technologies

Army Research Institute Briefing

Committee time

Public forum (5:15 p.m.-5:30 p.m.)

Dated: December 19, 2002.
Patricia L. Toppings,
Alternate OSD Federal Register Liaison Officer, Department of Defense.

[FR Doc. 02-32670 Filed 12-26-02; 8:45 am]

BILLING CODE 5001-08-M